DEPARTMENT OF ENERGY

Federal Energy Regulatory Commission

[Docket No. RP00-489-001]

Young Gas Storage Company, Ltd.; Notice of Compliance Filing

June 12, 2002.

Take notice that on May 31, 2002, Young Gas Storage Company, Ltd. (Young) tendered for filing as part of its FERC Gas Tariff, Original Volume No. 1, the following tariff sheets, to become effective August 1, 2002:

Second Revised Sheet No. 46

Fifth Revised Sheet No. 53

Third Revised Sheet No. 54A

Second Revised Sheet No. 54B

Original Sheet No. 54C

Seventh Revised Sheet No. 55

Sixth Revised Sheet No. 65

First Revised Sheet No. 106A

Young states that the tariff sheets, which were included in Young's Order No. 637 compliance filing, are being filed to comply with the Commission's order issued May 1, 2002 in this proceeding.

Any person desiring to protest said filing should file a protest with the Federal Energy Regulatory Commission, 888 First Street, NE., Washington, DC 20426, in accordance with section 385.211 of the Commission's Rules and Regulations. All such protests must be filed on or before June 18, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15411 Filed 6-18-02; 8:45 am]

BILLING CODE 6717-01-P